OFFICE OF THE UNITED STATES TRADE REPRESENTATIVE

Request for Comments and Notice of Public Hearing Concerning Proposed Trans-Pacific Partnership Free Trade Agreement With Singapore, Chile, New Zealand, Brunei Darussalam, Australia, Peru and Vietnam

AGENCY: Office of the United States Trade Representative.

ACTION: Notice of intent to initiate negotiations on a Trans-Pacific Partnership (TPP) free trade agreement with Singapore, Chile, New Zealand, Brunei Darussalam, Australia, Peru and Vietnam, request for comments, and notice of public hearing.

SUMMARY: The United States intends to initiate negotiations on a Trans-Pacific Partnership free trade agreement with Singapore, Chile, New Zealand, Brunei Darussalam, Australia, Peru and Vietnam. The interagency Trade Policy Staff Committee (TPSC) will convene a public hearing and seek public comment to assist the United States Trade Representative (USTR) in amplifying and clarifying negotiating objectives for the proposed agreements and to provide advice on how specific goods and services and other matters should be treated under the proposed agreement.

DATES: Persons wishing to testify orally at the hearing must provide written notification of their intent to testify, as well as their testimony, by February 25, 2009. A hearing will be held in Washington, DC, on March 4, 2009, and will continue as necessary on subsequent days. Written comments are due by noon, March 11, 2009.

ADDRESSES: Notices of intent to testify, testimony and/or written comments should be submitted electronically via the Internet at http://www.regulations.gov. For alternatives to on-line submissions please contact Gloria Blue, Executive Secretary, Trade Policy Staff Committee, at (202) 395-3475.

FOR FURTHER INFORMATION CONTACT: For procedural questions concerning written comments or participation in the public hearing, contact Gloria Blue, Executive Secretary, Trade Policy Staff Committee, at (202) 395-3475. All other questions regarding the TPP should be directed to Douglas Bell, Deputy Assistant USTR for Southeast Asia and the Pacific, at (202) 395-6813.

SUPPLEMENTARY INFORMATION:

1. Background

The process followed for notifying and consulting on the TPP negotiation is based on the procedures outlined under section 2104 of the Trade Act of 2002 (Trade Act) (19 U.S.C. 3804). Under these procedures, the President must provide the Congress with at least 90 calendar days written notice of his intent to enter into negotiations and identify the specific objectives for the negotiation and, before and after submission of the notice, consult with appropriate Congressional committees regarding the negotiations. Under the Trade Act of 1974, as amended, the President must (i) afford interested persons an opportunity to present their views regarding any matter relevant to any proposed agreement, (ii) designate an agency or inter-agency committee to hold a public hearing regarding any proposed agreement, and (iii) seek the advice of the U.S. International Trade Commission (ITC) regarding the probable economic effects on U.S. industries and consumers of the removal of tariffs and non-tariff barriers on imports pursuant to any proposed agreement.

On September 22, 2008 (for Singapore, Chile, New Zealand and Brunei Darussalam) and December 30, 2008 (for Australia, Peru and Vietnam), after consulting with relevant Congressional committees, the USTR notified the Congress that the President intends to initiate free trade agreement negotiations with these Trans-Pacific countries and identified specific objectives for the negotiations. In addition, the USTR is requesting that the ITC provide its advice on probable economic effects of the free trade agreement. This notice solicits views from the public on these negotiations and provides information on a hearing that will be conducted based on the requirements of the Trade Act of 1974.

2. Public Comments and Testimony

To assist the Administration as it continues to develop its negotiating objectives for the proposed agreements, the Chairman of the TPSC invites the written comments and/or oral testimony of interested persons at a public hearing. Comments and testimony may address the reduction or elimination of tariffs or non-tariff barriers on any articles provided for in the Harmonized Tariff Schedule of the United States (HTSUS) that are products of the participating Trans-Pacific countries, any concession that should be sought by the United States, or any other matter relevant to the proposed agreement. The TPSC invites comments and testimony on all of these matters and, in particular, seeks comments and testimony addressed to:

(a) General and commodity-specific negotiating objectives for the proposed plurilateral agreement.

(b) Economic costs and benefits to U.S. producers and consumers of removal of tariffs and non-tariff barriers on articles traded with the seven Trans-Pacific countries.

(c) Treatment of specific goods (described by HTSUS numbers) under the proposed agreement, including comments on:

(1) Product-specific import or export interests or barriers,

(2) Experience with particular measures that should be addressed in the negotiations, and

(3) In the case of articles for which immediate elimination of tariffs is not appropriate, a recommended staging schedule for such elimination.

(d) Adequacy of existing customs measures to ensure that imported goods originate from the seven Trans-Pacific countries, and appropriate rules of origin for goods entering the United States under the proposed agreement.

(e) Existing sanitary and phytosanitary measures and technical barriers to trade imposed by the seven Trans-Pacific countries that should be addressed in the negotiations.

(f) Existing barriers to trade in services between the United States and the Trans-Pacific countries that should be addressed in the negotiations.

(g) Relevant electronic commerce issues that should be addressed in the negotiations.

(h) Relevant trade-related intellectual property rights issues that should be addressed in the negotiations.

(i) Relevant investment issues that should be addressed in the negotiations.

(j) Relevant competition-related matters that should be addressed in the negotiations.

(k) Relevant government procurement issues that should be addressed in the negotiations.

(l) Relevant environmental issues that should be addressed in the negotiations.

(m) Relevant labor issues that should be addressed in the negotiations.

Comments identifying as present or potential trade barriers laws or regulations that are not primarily trade-related should address the economic, political, and social objectives of such laws and regulations and the degree to which they discriminate against foreign producers. At a later date, the USTR, through the TPSC, will publish notice of reviews regarding (a) the possible environmental effects of the proposed agreement and the scope of the U.S. environmental review of the proposed agreement, and (b) the impact of the proposed agreement on U.S. employment and labor markets.

A hearing will be held on March 4, 2009, in Rooms 1 and 2, 1724 F Street, NW., Washington, DC. Persons wishing to testify at the hearing must provide written notification of their intent to testify by February 25, 2009. The notification should include: (1) The name, address, and telephone number of the person presenting the testimony; and (2) a short (one or two paragraphs) summary of the presentation, including the subject matter and, as applicable, the product(s) (with HTSUS numbers), service sector(s), or other subjects (such as investment, intellectual property, and/or government procurement) to be discussed. A copy of the testimony must accompany the notification. Remarks at the hearing should be limited to no more than five minutes to allow for possible questions from the TPSC. Persons with mobility impairments who will need special assistance in gaining access to the hearing should contact the TPSC Executive Secretary.

Interested persons, including persons who participate in the hearing, may submit written comments by noon, March 11, 2009. Written comments may include rebuttal points demonstrating errors of fact or analysis not pointed out in the hearing. All written comments must state clearly the position taken, describe with particularity the supporting rationale, and be in English. The first page of written comments must specify the subject matter, including, as applicable, the product(s) (with HTSUS numbers), service sector(s), or other subjects (such as investment, intellectual property and/or government procurement).

3. Requirements for Submissions

Persons submitting an intent to testify and testimony and/or comments must do so in English and must identify (on the first page of the submission) the “United States—Trans-Pacific Partnership Free Trade Agreement.” Notice of intent to testify and testimony must be received by February 25, 2009. Written comments must be received by March 11, 2009.

In order to ensure the most timely and expeditious receipt and consideration of testimony and/or comments, USTR has arranged to accept on-line submissions via www.regulations.gov. To submit testimony and comments via www.regulations.gov, enter docket number USTR-2009-0002 on the home page and click “go”. The site will provide a search-results page listing all documents associated with this docket. Find a reference to this notice by selecting “Notice” under “Document Type” on the left side of the search-results page, and click on the link entitled “Send a Comment or Submission.” (For further information on using the http://www.regulations.gov/ Web site, please consult the resources provided on the Web site by clicking on “How to Use This Site” on the left side of the home page.)

The www.regulations.gov Web site provides the option of making submissions by filling in a “General Comments” field, or by attaching a document. We expect that most submissions will be provided in an attached document. If a document is attached, it is sufficient to type “See attached” in the “General Comments” field.

Submissions in Microsoft Word (.doc) or Adobe Acrobat (.pdf) are preferred. If an application other than those two is used, please identify in your submission the specific application used. For any comments submitted electronically containing business confidential information, the file name of the business confidential version should begin with the characters “BC”. Any page containing business confidential information must be clearly marked “BUSINESS CONFIDENTIAL” on the top of that page. Filers of submissions containing business confidential information must also submit a public version of their comments. The file name of the public version should begin with the character “P”. The “BC” and “P” should be followed by the name of the person or entity submitting the comments or reply comments. Filers submitting comments containing no business confidential information should name their file using the character “P”, followed by the name of the person or entity submitting the comments or reply comments. Electronic submissions should not contain separate cover letters; rather, information that might appear in a cover letter should be included in the submission itself. Similarly, to the extent possible, any attachments to a submission should be included in the same file as the submission itself and not as separate files. All non-confidential comments and reply comments will be placed on the USTR Web site, http://www.USTR.gov pursuant to 15 CFR 2003.5.

We strongly urge submitters to avail themselves of the electronic filing, if at all possible. If an on-line submission is impossible, alternative arrangements must be made with Ms. Blue prior to delivery for the receipt of such submissions. Ms. Blue should be contacted at (202) 395-3475. General information concerning the Office of the United States Trade Representative may be obtained by accessing its Internet Web site (http://www.ustr.gov).

Carmen Suro-Bredie,
Chairman, Trade Policy Staff Committee.

[FR Doc. E9-1515 Filed 1-23-09; 8:45 am]

BILLING CODE 3190-W9-P